DEPARTMENT OF ENERGY

Federal Energy Regulatory Commission

[Docket No. CP16-37-000]

National Fuel Gas Supply Corporation; Notice of Prior Notice Request Under Blanket Authorization

Take notice that on November 30, 2015, National Fuel Gas Supply Corporation (National Fuel) filed in Docket No. CP16-37-000, and pursuant to Sections 7 (b) & (c) of the Natural Gas Act, Part 157 of the regulations of the Federal Energy Regulatory Commission (Commission) and its blanket certificate authority granted in Docket No. CP83-4-000, a prior notice application requesting authorization to; (i) Construct and operate a new 4,140 hp compressor station to be known as Keelor Compressor Station in McKean County, Pennsylvania; (ii) perform modifications at Bowen Compressor Station in Elk County, Pennsylvania, including the abandonment of 650 ft. of pipe; and (iii) perform modifications at Roystone Compressor Station, in Warren County, Pennsylvania, including installation of 750 ft of 12-inch pipe. The project is estimated to cost $27.9 million.

Any questions concerning this application may be directed to: Kenneth E. Webster, Attorney, National Fuel Gas Supply Corporation, 6363 Main Street Williamsville, New York, 14221-5887, at (716) 857-7067 or by email at websterk@natfuel.com.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

National Fuel seeks authorization of this proposed Project to; (1) Increased capacity on National Fuel's existing Line D system by 77,500 Dekatherm per day, by increasing the operating pressure of Line AM60 and Line D, in order to provide firm transportation service to the Erie and Warren, Pennsylvania markets area from TGP at Lamont and to ensure that all existing storage withdrawal obligations can reliably be met, this will be accomplished by the installation of three-1,380 hp compressor stations (4,140 total hp) two of the three new compressor units at Keelor compressor station will be used to withdraw gas from the Keelor Storage Field and deliver such gas into Line AM60 (which is referred to as Line D west of the Roystone Compressor Station), the third compressor unit will be used to increase the pressure of gas withdrawn from National Fuel's East Branch and Swede Hill Storage Fields (2) to allow National Fuel to flow increased receipts from Tennessee Gas Pipeline, LLC (TGP) at Lamont and/or gas from Line K South of Bowen compressor station, through the Bowen compressor station, into Line K north of Bowen compressor station, and ultimately to Line AM60 and Line D, at sufficient pressure to allow the incremental volumes subscribed for by the Project shippers to reach the Erie and Warren, Pennsylvania markets, (3) to allow National Fuel to flow increased receipts from TGP at Lamont and/or gas from Line K south of Bowen compressor station, through the Bowen compressor station, into Line K north of Bowen compressor station, and ultimately to Line AM60 and Line D, at sufficient pressure to allow the incremental volumes subscribed for by the Project shippers to reach the Erie and Warren, Pennsylvania markets. The purpose of the proposed Roystone compressor station modification is to allow gas withdrawn from East Branch and Swede Hill storage fields, and first compressed and dehydrated by the Roystone compressor station, to reach the proposed Keelor compressor station for further compression up to the increased system maximum operating pressure of Line D of 720 psig. The Project, all as more fully set forth in the application which is on file with the Commission and open for public inspection. The filing may also be viewed on the web at http://www.ferc.gov using the “eLibrary” link. Enter the docket number excluding the last three digits in the docket number field to access the document. For assistance, contact FERC at FERCOnlineSupport@ferc.gov or call toll-free, (866) 208-3676 or TTY, (202) 502-8659.

Pursuant to section 157.9 of the Commission's rules, 18 CFR 157.9, within 90 days of this Notice the Commission staff will either: complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Persons who wish to comment only on the environmental review of this project should submit an original and two copies of their comments to the Secretary of the Commission. Environmental commenters will be placed on the Commission's environmental mailing list, will receive copies of the environmental documents, and will be notified of meetings associated with he Commission's environmental review process. Environmental commenters will not be required to serve copies of filed documents on all other parties. However, the non-party commenters will not receive copies of all documents filed by other parties or issued by the Commission (except for the mailing of environmental documents issued by the Commission) and will not have the right to seek court review of the Commission's final order.

The Commission strongly encourages electronic filings of comments, protests, and interventions via the internet in lieu of paper. See 18 CFR 385.2001(a) (1) (iii) and the instructions on the Commission's Web site (www.ferc.gov) under the “e-Filing” link. Persons unable to file electronically should submit an original and five copies of the protest or intervention to the Federal Energy Regulatory Commission, 888 First Street NE., Washington, DC 20426.

Dated: December 28, 2015.
Nathaniel J. Davis, Sr.,
Deputy Secretary.

[FR Doc. 2015-33033 Filed 12-31-15; 8:45 am]

BILLING CODE 6717-01-P